DEPARTMENT OF HEALTH AND HUMAN SERVICES

National Institutes of Health

National Institute of Mental Health; Amended Notice of Meeting

Notice is hereby given of a change in the meeting of the National Institute of Mental Health Special Emphasis Panel, October 26, 2015, 01:30 p.m. to October 26, 2015, 05:00 p.m., National Institutes of Health, Neuroscience Center, 6001 Executive Boulevard, Rockville, MD 20852 which was published in the Federal Register on September 28, 2015, 80 FR 58272.

This meeting is being amended to add a panel name. The panel name is “Fellowships and Dissertation Grants.” The meeting is closed to the public.

Dated: October 14, 2015.
Carolyn A. Baum,
Program Analyst, Office of Federal Advisory Committee Policy.

[FR Doc. 2015-26560 Filed 10-19-15; 8:45 am]

BILLING CODE 4140-01-P